DEPARTMENT OF DEFENSE

Defense Acquisition Regulations System

48 CFR Parts 225 and 252

RIN 0750-AG33

Defense Federal Acquisition Regulation Supplement; Restriction on Research and Development—Deletion of Obsolete Text (DFARS Case 2009-D005)

AGENCY: Defense Acquisition Regulations System, Department of Defense (DoD).

ACTION: Final rule.

SUMMARY: DoD has issued a final rule amending the Defense Federal Acquisition Regulation Supplement (DFARS) to remove obsolete text addressing a restriction on awards to foreign entities for DoD research and development. The restriction implemented a statutory provision that is no longer in effect.

DATES: Effective Date: October 19, 2009.

FOR FURTHER INFORMATION CONTACT: Ms. Amy Williams, Defense Acquisition Regulations System, OUSD (AT&L) DPAP (DARS), IMD 3D139, 3062 Defense Pentagon, Washington, DC 20301-3062. Telephone 703-602-0328; facsimile 703-602-7887. Please cite DFARS Case 2009-D005.

SUPPLEMENTARY INFORMATION:

A. Background

This final rule removes DFARS 225.7016, Restriction on Research and Development, since the underlying statutory provision (Section 744 of the DoD Appropriations Act for Fiscal Year 1973 (Pub. L. 92-570)) is no longer in effect. Section 744 of Public Law 92-570 prohibited the use of DoD appropriations to make an award to any foreign corporation, organization, person, or entity, for research and development in connection with any weapon system or other military equipment, if a U.S. corporation, organization, person, or entity was equally competent and willing to perform at a lower cost.

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subparts in accordance with 5 U.S.C. 610. Such comments should cite DFARS Case 2009-D005.

C. Paperwork Reduction Act

The Paperwork Reduction Act does not apply, because the rule does not impose any information collection requirements that require the approval of the Office of Management and Budget under 44 U.S.C. 3501, et seq.

List of Subjects in 48 CFR Parts 225 and 252

Government procurement.

Amy G. Williams,
Editor, Defense Acquisition Regulations System.

Therefore, 48 CFR Parts 225 and 252 are amended as follows:

1. The authority citation for 48 CFR Parts 225 and 252 continues to read as follows:

Authority: 41 U.S.C. 421 and 48 CFR Chapter 1.

PART 225—FOREIGN ACQUISITION

225.7016 [Removed]

2. Section 225.7016 is removed.

225.7017, 225.7017-1, 225.7017-2, 225.7017-3, and 225.7017-4 [Redesignated]

3. Sections 225.7017, 225.7017-1, 225.7017-2, 225.7017-3, and 225.7017-4 are redesignated as sections 225.7016, 225.7016-1, 225.7016-2, 225.7016-3, and 225.7016-4 respectively.

225.7016-3 [Amended]

4. Newly designated section 225.7016-3 is amended in paragraph (b), in the second sentence, by removing “225.7017-3” and adding in its place “225.7016-3”.

PART 252—SOLICITATION PROVISIONS AND CONTRACT CLAUSES

252.225-7018 [Amended]

5. Section 252.225-7018 is amended in the introductory text by removing “225.7017-4” and adding in its place “225.7016-4”.

[FR Doc. E9-25067 Filed 10-16-09; 8:45 am]

BILLING CODE 5001-08-P